DEPARTMENT OF THE INTERIOR

National Park Service

National Register of Historic Places; Notification of Pending Nominations and Related Actions

Nominations for the following properties being considered for listing or related actions in the National Register were received by the National Park Service before January 20, 2010. Pursuant to section 60.13 of 36 CFR part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by March 8, 2010.

J. Paul Loether,
Chief, National Register of Historic Places/National Historic Landmarks Program.

ALABAMA

Tuscaloosa County

Alabama Insane Hospital, 200 University Blvd., Tuscaloosa, 10000060

ARIZONA

Phoenix County

Sacred Heart Home for the Aged, 1110 N. 16th St., Phoenix, 05001548

CONNECTICUT

New Haven County

Chatfield Farmstead, 265 Seymour Rd., Woodbridge, 10000061

LOUISIANA

St. James Parish

Felicite Plantation, (Louisiana's French Creole Architecture MPS) 3351 LA 18, Vacherie, 10000062

MISSISSIPPI

Forrest County

University of Southern Mississippi Historic District, The, 118 College Dr., Hattiesburg, 10000063

Jefferson County

Poplar Hill Grade School, 3080 Poplar Hill Rd., Fayette, 10000064

Kemper County

Sucarnoochee River Fishweir, Address Restricted, Porterville, 10000065

MONTANA

Petroleum County

Lewistown Satellite Airfield Historic District (Boundary Increase III), Welter Divide Road, 12 mi. N. of Winnett, Winnett, 10000066

NEBRASKA

Gage County

North Eleventh Street Historic District, N. 11th St. bounded by Garfield St. on the N. & Lincoln St. on the S., Beatrice, 10000068

North Seventh Street Historic District, N. 7th St. bounded by Garfield St. on the N. & Washington St. on the S., Beatrice, 10000067

OKLAHOMA

Choctaw County

Rose Hill Plantation, Address Restricted, Hugo, 10000069

Pottawatomie County

Old Santa Fe Railroad Bridge, Drummond Rd., Wanette, 10000070

[FR Doc. 2010-3187 Filed 2-18-10; 8:45 am]

BILLING CODE 4310-70-P